DEPARTMENT OF TRANSPORTATION

Federal Aviation Administration

[Summary Notice No. PE-2001-77]

Petitions for Exemption; Summary of Dispositions of Petitions Issued

AGENCY: Federal Aviation Administration (FAA), DOT.

ACTION: Notice of disposition of prior petitions.

SUMMARY: Pursuant to FAA's rulemaking provisions governing the application, processing, and disposition of petitions for exemption part 11 of Title 14, Code of Federal Regulations (14 CFR), this notice contains a summary of disposition of certain petitions previously received. The purpose of this notice is to improve the public awareness of, and participation in, this aspect of FAA's regulatory activities. Neither publication of this notice nor the inclusion or omission of information in the summary is intended to affect the legal status of any petitions or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC on October 3, 2001.
Donald P. Byrne,
Assistant Chief Counsel for Regulations.

Dispositions of Petitions

Docket No.: FAA-2001-10597.

Petitioner: Oskaloosa AirCharter L.L.C.

Section of 14 CFR Affected: 14 CFR 135.143(c)(2).

Description of Relief Sought/Disposition: To permit Oakaloosa to operate certain aircraft under part 135 without a TSO-C112 (Mode S) transponder installed in the aircraft.

Grant, 09/19/2001, Exemption No. 7624

Docket No.: FAA-2001-9519 (previously Docket No. 581).

Petitioner: U.S. Air Force.

Section of 14 CFR Affected: 14 CFR 91.159.

Description of Relief Sought/Disposition: To permit USAF to conduct hurricane reconnaissance flight without maintaining the appropriate cruising altitudes as prescribed by that section of 14 CFR that governs operations for flights conducted under visual flight rules.

Grant, 09/21/2001, Exemption No. 131I

Docket No.: FAA-2001-10450.

Petitioner: Historical Aviation Organization of Logan County.

Section of 14 CFR Affected: 14 CFR 135.251, 135.255, 135.353, and appendixes I and J to part 121.

Description of Relief Sought/Disposition: To permit HAOLC to conduct local sightseeing flights at Bellefontaine Municipal Airport for Air Fest 2001 during September 2001, for compensation or hire, without complying with certain anti-drug and alcohol misuse prevention requirements of part 135.

Grant, 09/21/2001, Exemption No. 7627

Docket No.: FAA-2001-10289 (previously Docket No. 27180).

Petitioner: EVA Airways Corporation.

Section of 14 CFR Affected: 14 CFR 61.77(a) and (b) and 63.23(a) and (b).

Description of Relief Sought/Disposition: To permit the issuance of U.S. special purpose pilot authorizations and U.S. special purpose flight engineer certificates to airmen employed by EVA without those airmen meeting the requirements to hold a current foreign certificate or license issued by a foreign contracting State to the Convention on International Civil Aviation, provided the airmen hold appropriate certificates issued by Taiwan's Civil Aeronautics Administration.

Grant, 09/21/2001, Exemption No. 6689C

[FR Doc. 01-25298 Filed 10-5-01; 8:45 am]

BILLING CODE 4910-13-M